DEPARTMENT OF THE INTERIOR

Fish and Wildlife Service

[FWS-R8-MB-2017-N049; FF08M00000-FXMB12310800000-145]

Notice of Intent To Prepare an Environmental Impact Statement; Hycroft Mining Company; Request for Take Permits Under the Bald and Golden Eagle Protection Act

AGENCY: Fish and Wildlife Service, Interior.

ACTION: Notice of intent to prepare an environmental impact statement; notice of scoping meeting and request for comments.

SUMMARY: We, the U.S. Fish and Wildlife Service (Service), intend to prepare a joint environmental impact statement (EIS) with the Bureau of Land Management (BLM). We are a cooperating agency with the BLM on the development of this EIS. The BLM will be analyzing potential impacts of their decision regarding Hycroft Resource and Development Incorporated's (Hycroft/applicant) proposed expansion as described in BLM's notice of intent published in December 2014. This EIS will also analyze impacts associated with the Service's eagle take permit decisions. The Service will evaluate the applicant's Eagle Conservation Plan (ECP), which describes their request to remove inactive golden eagle nests and their request for incidental take authorization for impacts resulting from removing eagle nests, mining operations, and expansion of the existing facility. We are considering the applicant's request, as allowed under the Bald and Golden Eagle Protection Act (Eagle Act), for nest removal for the purpose of resource development and recovery operations and incidental take. The BLM has already conducted public scoping regarding the proposed expansion of the Hycroft mine.

DATES: To ensure consideration, please send your written comments by November 21, 2017. Public scoping meetings will be held from 5 p.m. to 8 p.m. on Tuesday, October 10, 2017, at the Hyatt Place Reno-Tahoe Airport, 1790 East Plumb Lane, Reno, NV 89502; and on Wednesday, October 11, 2017, at the Winnemucca Convention Center, 50 West Winnemucca Blvd., Winnemucca, NV 89445.

ADDRESSES: To request further information or submit written comments, please use one of the following methods, and note that your information request or comment is in reference to the Hycroft Mine Eagle Conservation Plan EIS.

• Email: fw8_eaglepermits@fws.gov. Include “Hycroft Mine Eagle Conservation Plan EIS” in the subject line of the message.

• U.S. Mail: Heather Beeler, Migratory Bird Program, U.S. Fish and Wildlife Service, Pacific Southwest Regional Office, 2800 Cottage Way,W-2605, Sacramento, CA 95825.

• Fax: Heather Beeler, Migratory Bird Program, (916) 414-6486; Attn: Hycroft Mine Eagle Conservation Plan EIS Scoping.

FOR FURTHER INFORMATION CONTACT: Heather Beeler, Migratory Bird Program, at the address shown above or at (916) 414-6651 (telephone). If you use a telecommunications device for the deaf, please call the Federal Relay Service at (800) 877-8339.

SUPPLEMENTARY INFORMATION: We, the Service, intend to prepare a joint environmental impact statement (EIS) with the BLM in response to Hycroft's permit application to remove inactive golden eagle (Aquila chrysaetos) nests and for incidental take under the Eagle Act. Hycroft submitted a draft Eagle Conservation Plan (ECP) as part of their permit application. The draft ECP is a comprehensive plan that addresses the removal of inactive golden eagle nests and also provides measures to avoid, minimize, and mitigate for the loss of golden eagle nesting territories. The draft EIS will evaluate the impacts of several alternatives related to the proposed issuance of permits by the Service to allow the removal of inactive golden eagle nests for natural resource extraction and authorization of incidental take, including the potential loss of up to two golden eagle breeding territories. The Hycroft mine is located near the historical town of Sulphur, in Pershing and Humboldt Counties, Nevada.

We provide this notice to (1) describe the proposed action; (2) advise other Federal and State agencies, potentially affected tribal interests, and the public of our intent to prepare an EIS; (3) announce the initiation of a 60-day public scoping period; and (4) obtain suggestions and information on the scope of issues and possible alternatives to be included in the EIS. We are particularly interested in comments regarding the creation of new golden eagle nest sites or territories, a potential mitigation option.

We also announce plans for public scoping meetings and the opening of a public comment period. We request data, comments, new information, or suggestions from the public, governmental agencies, the scientific community, tribes, industry, or any other interested party.

We publish this notice in accordance with the National Environmental Policy Act of 1969, as amended (42 U.S.C. 4321-4347 et seq.; NEPA), and its implementing regulations in the Code of Federal Regulations at 40 CFR 1500-1508, as well as section 668a of the Eagle Act (16 U.S.C. 668a-668d).

Background

Golden eagles are protected under the Eagle Act, which prohibits take of both bald and golden eagles and eagle nests. “Take” under the Eagle Act includes any actions that pursue, shoot, shoot at, poison, wound, kill, capture, trap, collect, destroy, molest, and disturb eagles. “Disturb” is further defined in 50 CFR 22.3 as “to agitate or bother a bald or golden eagle to a degree that causes, or is likely to cause, based on the best scientific information available (1) injury to an eagle, (2) a decrease in its productivity, by substantially interfering with normal breeding, feeding, or sheltering behavior, or (3) nest abandonment, by substantially interfering with normal breeding, feeding, or sheltering behavior.”

The BLM will be the lead agency in development of the EIS, and will be evaluating the applicant's request for the proposed expansion of their operations at the Hycroft Mine. The current mining operations were approved by BLM in a record of decision (ROD) issued in August of 2012.

During biological surveys conducted in 2011 and 2012 for BLM's 2012 EIS, a golden eagle nest and two older nests were discovered on an outcrop at the northern end of the Silver Camel feature. Mining of the Silver Camel feature and the occurrence of the nests were both analyzed in BLM's 2012 EIS. The BLM's 2012 ROD required further coordination with the Service regarding potential nest removal.

In April 2014, Hycroft submitted a plan of operations modification for the phase II expansion of the mine to the BLM. The phase II expansion includes a proposal to construct a tailings storage facility. Three golden eagle nests were identified within the proposed footprint of the tailings storage facility.

In this current joint EIS, BLM will analyze potential impacts of Hycroft's proposed expansion as described in BLM's notice published on December 30, 2014 (79 FR 78469), and the Service will analyze impacts related to our Eagle Act take permit decisions.

Scope for Eagle Permit Analysis

All eagle permit alternatives considered in the EIS should conform to the Eagle Act permit issuance criteria for nest removal for the purpose of resource development and recovery operations, as allowed under 50 CFR 22.25, and for incidental take as allowed under 50 CFR 22.26. The draft EIS will identify and analyze direct, indirect, and cumulative impacts of the proposed Eagle Act permit requests and alternatives associated with several resource areas, including biological resources, Native American religious concerns, air quality, noise, water resources, cultural resources, socioeconomics, and climate change. We will also consider evaluation of additional resource areas if issues of concern specific to the proposed action are identified during the public scoping process. The purpose of the public scoping process for the EIS is to determine relevant issues that will influence the scope of the environmental analysis, including potential alternatives, and the extent to which those issues and impacts will be analyzed in the EIS. We will evaluate a minimum of three alternatives.

Applicant's Proposal

Hycroft has requested permits under the Eagle Act for nest removal associated with resource development and recovery, and incidental take for anticipated impacts, including the potential loss of nesting territories, associated with mining operations as described in the ECP.

Hycroft is requesting authorization for removal of three golden eagle nests on the Silver Camel feature within the existing mine area and up to the three nests within the proposed tailings facility footprint. Nest removals would likely affect two different golden eagle breeding territories. Specific activities requested and being considered include the following:

1. Removal of golden eagle nests.

2. Implementation of mitigation measures to offset the loss of nesting territories and provide a no net loss to golden eagles in the local area breeding population, including, but not limited to:

a. Creation of new nest sites, possibly on abandoned mine high walls;

b. Offsite nest rehabilitation; and

c. Retrofitting electric utility power poles to minimize the potential for electrocutions.

3. Monitoring to evaluate project impacts and the effectiveness of the mitigation measures. Monitoring efforts would generally include:

a. Monitoring of golden eagle nests located within the plan area and a 10-mile radius surrounding the plan area; and

b. Monitoring of the offsite nests created or rehabilitated for the establishment of golden eagle use and creation of new breeding territories.

Public Comments

We request data, comments, new information, or suggestions from the public, other governmental agencies, the scientific community, Tribes, industry, or any other interested party on this notice. We are particularly interested in comments regarding the creation of new golden eagle nest sites or territories, a potential mitigation option. We will consider these comments in developing the draft EIS.

Public Availability of Comments

You may submit your comments and materials by one of the methods listed above in ADDRESSES. Before including your address, phone number, or other personal identifying information in your comment, you should be aware that your entire comment—including your personal identifying information—might be made publicly available at any time. While you can ask us in your comment to withhold your personal identifying information from public review, we cannot guarantee that we will be able to do so.

Scoping Meetings

See DATES for the dates and times of our public meetings. The primary purpose of these meetings and public comment period is to provide the public with a general understanding of the background of the proposed action and to solicit suggestions and information on the scope of issues and alternatives we should consider when drafting the EIS. Comments will be accepted at the meetings. An interpreter and/or court reporter will be present when deemed necessary. Comments can also be submitted by methods listed in the ADDRESSES section. Once the draft EIS is complete and made available for review, there will be additional opportunity for public comment on the content of these documents.

Persons needing reasonable accommodations in order to attend and participate in the public meetings should contact the Pacific Southwest Region's Migratory Bird Office using one of the methods listed above in ADDRESSES as soon as possible. In order to allow sufficient time to process requests, please make contact no later than one week before the public meeting. Information regarding this proposed action is available in alternative formats upon request.

Authority

We provide this notice under section 668a of the Eagle Act (16 U.S.C. 668-668c) and NEPA regulations (40 CFR 1501.7, 40 CFR 1506.6, and 40 CFR 1508.22).

Jody Holzworth,
Acting Deputy Regional Director, Pacific Southwest Region, Sacramento, California.

[FR Doc. 2017-20053 Filed 9-21-17; 8:45 am]

BILLING CODE 4333-15-P